DEPARTMENT OF ENERGY

Federal Energy Regulatory Commission

[Docket No. GT02-10-000]

U-T Offshore System, L.L.C., Enbridge Offshore Pipelines (UTOS) LLC; Notice of Proposed Changes in FERC Gas Tariff

February 21, 2002.

Take notice that on February 12, 2002, U-T Offshore System L.L.C. (U-TOS) and Enbridge Offshore Pipelines (UTOS) LLC (UTOS) filed its FERC Gas Tariff, Fifth Revised Volume No. 1 to reflect a corporate name change to become effective on April 1, 2002. A complete listing of the tariff sheets filed are shown on Appendix A, attached to the filing.

U-TOS and UTOS state that copies of its transmittal letter and appendices have been mailed to all affected customers and interested state commissions. U-TOS and UTOS state that in an attempt to avoid unnecessary postage and duplicating expense, it requested a partial waiver of the requirement in § 154.208 of the Commission's regulations requiring it to serve copies of the listed tariff sheets to all parties. However, U-TOS and UTOS also state that copies of the tariff sheets will be provided, via overnight mail, upon request.

Any person desiring to be heard or to protest said filing should file a motion to intervene or a protest with the Federal Energy Regulatory Commission, 888 First Street, NE., Washington, DC 20426, in accordance with sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

Magalie R. Salas,
Secretary.

[FR Doc. 02-4602 Filed 2-26-02; 8:45 am]

BILLING CODE 6717-01-P